DEPARTMENT OF STATE

[Public Notice 3712]

Bureau of Educational and Cultural Affairs Request for Grant Proposals: Census of Foreign Students in the United States

SUMMARY: The Educational Information and Resources Branch, Office of Global Educational Programs, Bureau of Educational and Cultural Affairs (the Bureau) announces an open competition for a Census of Foreign Students in the United States. Public and private non-profit organizations meeting the provisions described in IRS regulation 26 CFR 1.501(c) may submit proposals to conduct a statistical survey (census) of foreign nationals affiliated with institutions of higher learning in the United States. The census should identify in the most economical way possible the number of foreign students and scholars studying, conducting research, or teaching at all accredited universities and colleges in the United States starting in the 2000/2001 academic year; it must provide detailed individual student profile data, country-specific aggregate data in the form of Country Locator Reports, and data about the number of American students studying abroad. Proposals should describe the methodology which will be used to collect the data and how the material will be analyzed and presented to the public. The proposals must also include plans to establish an advisory board to provide assistance in identifying and framing policy issues to be addressed.

Program Information

Overview

As the Federal Department tasked with promoting international educational exchange, the Bureau considers it essential to have an accurate picture of foreign study and scholarship in the United States, such as that provided by the statistical survey. This survey should provide a detailed and comprehensive picture of the number and characteristics of foreign nationals (excluding permanent residents and refugees) affiliated with American institutions of higher learning and the number of U.S. students studying abroad. Topics of interest include the number of students and scholars, their gender, countries of origin, and fields of study. Information about students' academic level (undergraduate, graduate, post-doctorate), primary source of financial support, financial contributions they make while in the United States, and location of study should be included. A survey of students in intensive English language programs is also of interest. The Bureau will consider funding a publication, website, database, newsletter, or any other medium presented as a viable vehicle for making census data about the U.S. and foreign student population widely available in a timely manner and in a clear and concise format. Continued support, assuming availability of funding, will be contingent upon accurate data collection, quality of presentation of that data, and prompt publication of the census. The Bureau reserves the right to reproduce, publish or otherwise use any work developed under this grant for Government purposes.

Guidelines

Proposals should include a description of the methodology to be used to canvass colleges and universities for information about their statistics.Provision should be made for securing the highest possible response rate.Data collected from the surveys of foreign students enrolled in regionally accredited U.S. institutions of higher learning should be collected annually with 1,000 copies of the first edition being published in hard-copy and shipped to the Bureau in late fall 2002. For a more detailed analysis and cross tabulation of the characteristics of the foreign student population, individual student profile data should be collected from selected institutions. This individual student profile data should be provided to the Bureau in a format that is country-specific and should show the number of students from a specific country attending selected institutions of higher education in each state of the U.S. Applicants are encouraged to explore electronic collection of this data.

The Bureau is interested in a clear presentation of the data collected as well as a rigorous analysis of the data, which will draw conclusions about trends in international study in the U.S. that can be used to guide policy discussions for both government and academia. An advisory board must be established to provide assistance in identifying and framing policy issues to be addressed; the board should meet at least once a year. Board members would likely be drawn from a broad range of disciplines and organizations such as NAFSA: Association of International Educators and the American Association of Collegiate Registrars and Admissions Officers, and would be expected to provide fresh perspectives on topics that are related to the internationalization of higher education.

Scholarly analyses of census data addressing pertinent policy issues should be included, taking into consideration a wide range of prospective readers and policy makers in government, academia, and business. The publication should include a section on the mechanics and uses of data analysis, highlighting how conclusions can be drawn from the data collected, what some of the limitations of that analysis can be, and how the data can benefit those supplying it, i.e. as a campus advocacy or recruiting tool. Please include with the proposal a complete list of proposed chapter headings and sample analyses.

We welcome innovative approaches to the presentation of material, including possible breakdowns for Historically Black Colleges and Universities and the Hispanic Association of Colleges and Universities. Topics we would be interested in exploring include:

(1) Demonstrated benefits of study abroad, e.g. as seen by employers;

(2) How sociological and economic trends in other countries are reflected in student flows to the U.S.;

(3) The impact of international students and scholars on U.S. academic institutions and departments;

(4) How the international exchange population is affected by U.S. visa policies;

(5) U.S. academics lecturing and researching abroad: the countries/regions they are going to, the fields of study, and who pays for it;

(6) Data on foreign students who participate in U.S. study abroad programs;

(7) International student flows as an element of global trade and further study and analysis to enable judgments on the commercial significance of foreign markets for education and training;

(8) Additional information on programs of other countries promoting international education on a commercial basis; and

(9) Information on U.S. institutions' activities to educate foreign students in their home countries, to complement the data now collected on education of foreign students in the United States;

(10) A survey of foreign faculty teaching in U.S.

Grant should begin on or about October 1, 2001 and run through September 30, 2002.

Budget Guidelines

Grants awarded to eligible organizations with less than four years experience in conducting international exchange programs will be limited to $60,000. The Bureau anticipates awarding one grant amount of $190,000 to support program and administrative costs required to implement this program. The Bureau encourages applicants to provide maximum levels of cost-sharing and funding from private sources in support of its programs.Applicants must submit a comprehensive budget for the entire program. Awards may not exceed $190,000. There must be a summary budget as well as breakdown reflecting both administrative and program budgets. Applicants may provide separate sub-budgets for each program component, phase, location, or activity to provide clarification. Allowable costs for the program include the following:

(1) Salaries and fringe benefits; travel and per diem;

(2) Other direct costs, inclusive of rent, utilities, etc.;

(3) Overhead expenses and auditing costs. Please refer to the Solicitation Package for complete budget guidelines and formatting instructions.

Announcement Title and Number

All communications with the Bureau concerning this RFGP should refer to the announcement's title and reference number ECA/A/S/A 02-01

FOR FURTHER INFORMATION, CONTACT: The Office of Global Educational Programs, Educational Information and Resource Branch, U.S. of Department of State, 301 4th Street, SW., (SA-44), Washington, DC 20547, Tel: (202) 619-5549, Fax: (202) 401-1433, E-mail: aprince@pd.state.gov to request a Solicitation Package.

The Solicitation Package contains detailed award criteria, required application forms, specific budget instructions, and standard guidelines for proposal preparation. Please specify Bureau Program Officer Anne Prince on all other inquiries and correspondence.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, DC time on August 1, 2001. Faxed documents will not be accepted at any time.Documents postmarked by August 1, 2001 but received at a later date will not be accepted. Each applicant must ensure that the proposals are received by the above deadline.

Applicants must follow all instructions in the Solicitation Package. The original and 10 copies of the application should be sent to: U.S. Department of State, SA-44 Bureau of Educational and Cultural Affairs, Reference: ECA/A/S/A-02-01, Program Management, ECA/EX/PM, Room 534, 301 4th St., SW., Washington, DC 20547.

Applicants must also submit the “Executive Summary” and “Proposal Narrative” sections of the proposal on a 3.5 diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life.“Diversity” should be interpreted in the broadest sense and encompass differences including, but not limited to ethnicity, race, gender, religion, geographic location, socio-economic status, and physical challenges.Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards Census of Foreign Students in the United States resides with the Bureau's Grants Officer.

Review Criteria

Technically eligible applications will be competitively reviewed according to the criteria stated below. These criteria are not rank ordered and all carry equal weight in the proposal evaluation:

(1) Quality of the program idea: Proposals should exhibit originality, substance, precision, and relevance to the Bureau's mission.

(2) Program planning: Detailed agenda and relevant work plan should demonstrate substantive undertakings and logistical capacity. Agenda and plan should adhere to the program overview and guidelines described above.

(3) Ability to achieve program objectives: Objectives should be reasonable, feasible, and flexible.

Proposals should clearly demonstrate how the institution will meet the program's objectives and plan.

(4) Support of Diversity: Proposals should demonstrate substantive support of the Bureau's policy on diversity. Achievable and relevant features should be cited in both program administration (selection of participants, program venue and program evaluation) and program content(orientation and wrap-up sessions, program meetings, resource materials and follow-up activities).

(5) Institutional Capacity: Proposed personnel and institutional resources should be adequate and appropriate to achieve the program or project's goals.

(6) Institution's Record/Ability: Proposals should demonstrate an institutional record of successful exchange programs, including responsible fiscal management and full compliance with all reporting requirements for past Bureau grants as determined by Bureau Grant Staff. The Bureau will consider the past performance of prior recipients and the demonstrated potential of new applicants.

(7) Project Evaluation: Proposals should include a plan to evaluate the activity's success, both as the activities unfold and at the end of the program. A draft survey questionnaire or other technique plus description of a methodology to use to link outcomes to original project objectives are recommended. Successful applicants will be expected to submit intermediate reports after each project component is concluded or quarterly, whichever is less frequent.

(8) Cost-Effectiveness: The overhead and administrative components of the proposal, including salaries and honoraria, should be kept as low as possible. All other items should be necessary and appropriate.

(9) Cost-sharing: Proposals should maximize cost-sharing through other private sector support as well as institutional direct funding contributions.

(10) Improved Productivity and Innovation: The Proposal should specify and verify the prospect of improved productivity as well as proposed program innovations in implementing the activity.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 22, 2001.
Helena Kane Finn,
Acting Assistant Secretary for Educational and Cultural Affairs, U.S. Department of State.

[FR Doc. 01-16702 Filed 7-5-01; 8:45 am]

BILLING CODE 4710-05-P